DEPARTMENT OF HEALTH AND HUMAN SERVICES

National Institutes of Health

Eunice Kennedy Shriver National Institute of Child Health & Human Development; Amended Notice of Meeting

Notice is hereby given of a change in the meeting of the National Institute of Child Health and Human Development Special Emphasis Panel, February 20, 2017, 02:00 p.m. to February 20, 2017, 04:00 p.m., National Institutes of Health, 6701 Rockledge Drive, Bethesda, MD, 20892 which was published in the Federal Register on January 30, 2017, 82 FR 8757.

The meeting date has changed from February 20, 2017 at 2:00 p.m. to 4:00 p.m. to March 23, 2017 at 2:30 p.m. to 4:30 p.m. The meeting is closed to the public.

Dated: February 28, 2017.
Michelle Trout,
Program Analyst, Office of Federal Advisory Committee Policy.

[FR Doc. 2017-04174 Filed 3-3-17; 8:45 am]

BILLING CODE 4140-01-P